DEPARTMENT OF DEFENSE

Department of the Navy

Notice of Partially Closed Meeting of the Secretary of the Navy Advisory Panel

AGENCY: Department of the Navy, DoD.

ACTION: Notice.

SUMMARY: The Secretary of the Navy Advisory Panel will meet to receive ethics training and discuss top areas of concern that the Secretary of the Navy should address. The discussion of such information would be exempt from public disclosure as set forth in section 552b(c)(5), (6), and (7) of title 5, United States Code. For this reason the executive session of this meeting will be closed to the public.

DATES: The open session of the meeting will be held on Tuesday, April 21, 2009, from 8:15 a.m. to 10:15 a.m. The closed executive Session will also be held on Thursday, April 21, 2009, from 10:30 a.m. to 2 p.m.

ADDRESSES: The meeting will be held in the Pentagon Conference Center, Room B8, 1000 Navy Pentagon, Washington, DC 20350-1000. The meeting will be handicap accessible.

For Access: Public access is limited due to the Pentagon Security requirements. Any individual wishing to attend will need to contact CDR Marc Gage at 703-695-3042 or LCDR Victor Spears at 703-695-3573 no later than April 14, 2009. Members of the public who do not have Pentagon access will be required to also provide Name, Date of Birth and Social Security number by April 14, 2009, in order to obtain a visitor badge. Public transportation is recommended as public parking is not available.

Members of the public wishing to attend this event must enter through the Pentagon's Metro Entrance between 8:15 a.m. and 8:35 a.m. where they will need two forms of identification in order to receive a visitors badge and meet their escort. Members of the Public will then be escorted to Pentagon Conference Center, Room B8, to attend the open sessions of the Advisory Panel. Members of the Public shall remain with designated escorts at all times while on the Pentagon Reservation. Members of the public will be escorted back to the Pentagon Metro Entrance at 10:15 a.m.

FOR FURTHER INFORMATION CONTACT: Colonel Caroline Simkins-Mullins, SECNAV Advisory Panel, Office of Program and Process Assessment 1000 Navy Pentagon, Washington, DC 20350, telephone: 703-697-9154.

SUPPLEMENTARY INFORMATION: This notice of meeting is provided per the Federal Advisory Committee Act, as amended (5 U.S.C. App.). The executive session of this meeting will consist of discussions of ethics training for the Secretary of the Navy Advisory Panel. The proposed closed session from 10:15 a.m. to 2 p.m. will include a discussion of top areas of concern that the Secretary of the Navy should address. Discussion of such information cannot be adequately segregated from other topic, which precludes opening the executive session of this meeting to the public.

Accordingly, the Secretary of the Navy has determined in writing that the public interest requires that all sessions of this meeting be closed to the public because it will be concerned with matters listed in sections 552b(c)(5), and (7) of the title 5, United States Code.

Dated: March 31, 2009.
A.M. Vallandingham,
Lieutenant Commander, Judge Advocate General's Corps, U.S. Navy, Federal Register Liaison Officer.

[FR Doc. E9-7533 Filed 4-2-09; 8:45 am]

BILLING CODE 3810-FF-P